DEPARTMENT OF THE TREASURY

Submission for OMB Review; Comment Request

January 23, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 5, 2003, to be assured of consideration.

Financial Crimes Enforcement Network (FinCEN)

OMB Number: 1506-0006.

Form Number: FinCEN 102.

Type of Review: Revision.

Title: Suspicious Activity Report by Casinos.

Description: Treasury is requiring casinos and card clubs with annual gaming revenue of more than $1,000,000 to report suspicious activities.

Respondents: Business or other for-profit, State, Local or Tribal Government.

Estimated Number of Respondents/Recordkeepers: 550.

Estimated Burden Hours Per Respondent/Recordkeeper: 45 minutes.

Estimated Total Reporting/Recordkeeping Burden: 1,550 hours.

Clearance Officer: Steve Rudzinski, Financial Crimes Enforcement Network, 2070 Chain Bridge Road, Suite 200, Vienna, VA 22182, (703) 905-3845.

OMB Reviewer: Joseph F. Lackey, Jr., Office of Management and Budget, Room 10235, New Executive Office Building, Washington, DC 20503, (202) 395-7316.

Lois K. Holland, Departmental Reports
Management Officer.

[FR Doc. 03-2407 Filed 1-31-03; 8:45 am]

BILLING CODE 4810-02-P